DEPARTMENT OF COMMERCE

National Oceanic and Atmospheric Administration

RIN 0648-XC343

Endangered and Threatened Species; Take of Anadromous Fish

AGENCY: National Marine Fisheries Service (NMFS), National Oceanic and Atmospheric Administration (NOAA), Department of Commerce.

ACTION: Issuance of a scientific research permit, and notice of availability for final environmental assessment and finding of no significant impact.

SUMMARY: This notice is hereby given that NMFS has issued Permit 14868 to Mr. Robert Clark, Assistant Regional Director of the U.S. Fish and Wildlife Service (FWS), in accordance with the Endangered Species Act of 1973, as amended (ESA). In addition, the Final Environmental Assessment and Finding of No Significant Impact associated with this permit are available to the public.

ADDRESSES: The approved application for the permit is available on the Applications and Permits for Protected Species (APPS), https://apps.nmfs.noaa.gov Web site by searching the permit number within the Search Database page. The application, issued permit, Final Environmental Assessment, Finding of No Significant Impact and supporting documents are also available by appointment, or upon the following:

• Mail: Submit written requests to Elif Fehm-Sullivan, Fisheries Biologist, Protected Resources Division, Southwest Region, National Marine Fisheries Service, 650 Capitol Mall, Suite 5-100, Sacramento, CA 95814.

• Fax: (916) 930-3629.

• Email: SJRspring.salmon@noaa.gov.

You may access a copy of Final EA by one of the following:

• Visit the NMFS Reintroduction Web site at http://swr.nmfs.noaa.gov/sjrrestorationprogram/salmonreintroduction.htm.

• Call (916) 930-3723 and request to have a CD or hard copy mailed to you.

• Obtain a CD or hard copy by visiting the NMFS Central Valley office at 650 Capitol Mall, Suite 5-100, Sacramento, CA 95814.

FOR FURTHER INFORMATION CONTACT: Elif Fehm-Sullivan, National Marine Fisheries Service, 650 Capitol Mall, Suite 5-100, Sacramento, CA 95814 (916-930-3723).

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to ESA listed species from the Central Valley spring-run Chinook salmon (Oncorhynchus tshawytscha) (spring-run Chinook) evolutionarily significant unit (ESU).

Permit 14868

NMFS formally initiated a public review period for review of the permit application through publication of a Notice of Receipt (NOR) of the Permit application in the Federal Register on February 4, 2011, outlining the research and enhancement activities proposed by FWS and take of ESA-listed spring-run Chinook proposed under Permit 14868 (76 FR 64005). The notice of receipt included a 30-day public comment period for this permit application, which closed on March 7, 2011. In addition, NMFS held public workshops for the section 10(a)(1)(A) permit application in Chico, California on February 3, 2011; in Fresno, California on February 7, 2011; and in Los Banos, California on February 8, 2011. A combined total of 113 public comments were submitted to NMFS by various entities on the permit application and each of these comments were considered when drafting the Environmental Assessment (EA).

NMFS formally initiated a public review period for the EA of the permit application through publication of a Notice of Availability (NOA) of the Permit application EA in the Federal Register on April 19, 2012, outlining the research and enhancement activities NMFS was proposing to allow under Permit 14868 (76 FR 23463). The notice of availability included a 30-day public comment period for this permit application EA, which closed on May 21, 2012. A combined total of 51 public comments were submitted to NMFS by various entities on the permit application EA and these comments with responses are incorporated in the Final EA.

Permit 14868 authorizes FWS, under the auspices of the San Joaquin River Restoration Project (SJRRP), to collect, transport, rear, and tag 560 Feather River Fish Hatchery (FRFH) Central Valley spring-run Chinook salmon (Oncorhynchus tshawytscha) eggs or juveniles during the first three years of the permit annually—and 2,760 eggs or juveniles in the fourth and fifth years, and establish broodstock in the Interim and Salmon Conservation and Research Facility (SCARF) facilities. In addition, the permit authorizes a low level of intentional mortality of 60 FRFH surplus juvenile spring-run Chinook salmon annually for pathogen analysis prior to transport to ensure that pathogens will not be transferred to either the Interim Facility or the SCARF.

Dated: November 8, 2012.
Angela Somma,
Chief, Endangered Species Division, Office of Protected Resources, National Marine Fisheries Service.

[FR Doc. 2012-27663 Filed 11-13-12; 8:45 am]

BILLING CODE 3510-22-P